DEPARTMENT OF EDUCATION

[Docket No.: ED-2024-SCC-0040]

Agency Information Collection Activities; Comment Request; Integrated Postsecondary Education Data System (IPEDS) 2024-25 Through 2026-27

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before May 3, 2024.

ADDRESSES: To access and review all the documents related to the information collection listed in this notice, please use https://www.regulations.gov by searching the Docket ID number ED-2024-SCC-0040. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-8240.

FOR FURTHER INFORMATION CONTACT: For specific questions related to collection activities, please contact Carrie Clarady, 202-245-6347.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Integrated Postsecondary Education Data System (IPEDS) 2024-25 through 2026-27.

OMB Control Number: 1850-0582.

Type of Review: A revision of a currently approved ICR.

Respondents/Affected Public: Private Sector.

Total Estimated Number of Annual Responses: 65,536.

Total Estimated Number of Annual Burden Hours: 636,660.

Abstract: The National Center for Education Statistics (NCES) seeks authorization from OMB to make a change to the Integrated Postsecondary Education Data System (IPEDS) data collection. IPEDS is a web-based data collection system designed to collect basic data from all postsecondary institutions in the United States and the other jurisdictions. The IPEDS data collection enables the National Center for Education Statistics (NCES) to report on key dimensions of postsecondary education such as enrollments, degrees and other awards earned, tuition and fees, average net price, student financial aid, graduation rates, student outcomes, revenues and expenditures, faculty salaries, and staff employed.

The IPEDS web-based data collection system was implemented in 2000-01. In 2022-23, IPEDS collected data from 5,983 Title IV postsecondary institutions in the United States and the other jurisdictions. All Title IV institutions are required to respond to IPEDS (Section 490 of the Higher Education Amendments of 1992 [Pub. L. 102-325]). IPEDS allows other (non-Title IV) institutions to participate on a voluntary basis; approximately 200 non-Title IV institutions elect to respond each year. Institution closures and mergers have led to a decrease in the number of institutions in the IPEDS universe over the past few years. Due to these fluctuations, combined with the addition of new institutions, NCES uses rounded estimates for the number of institutions in the respondent burden calculations for the upcoming years (estimated 6,000 Title IV institutions plus 200 non-title IV institutions for a total of 6,200 institutions estimated to submit IPEDS data during the 2024-25 through 2026-27 IPEDS data collections). IPEDS data are available to the public through the College Navigator and IPEDS Use the Data websites.

The current clearance covers the 2022-23 through 2024-25 collections and is due to expire on August 31, 2025. We are requesting to make changes to multiple survey components and other updates to the identification, cross-cutting terminology, and the glossary. The largest changes in this package are (1) the addition of a new Cost (CST) survey component, which combines components taken from the Student Financial Aid (SFA) and Institutional Characteristics (IC) components and combines them with added questions to determine how and make publicly available more information about how postsecondary institutions ask for information above and beyond the FAFSA; and (2) the planned elimination of the Academic Libraries (AL) survey beginning in the 2025-26 administration.

As part of the public comment period review, NCES requests that IPEDS data submitters and other stakeholders respond to the directed questions found in Appendix D of this submission.

Dated: February 28, 2024.
Stephanie Valentine,
PRA Coordinator, Strategic Collections and Clearance Governance and Strategy Division, Office of Chief Data Officer, Office of Planning, Evaluation and Policy Development.

[FR Doc. 2024-04509 Filed 3-1-24; 8:45 am]

BILLING CODE 4000-01-P